DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, July 19, 2004. The Madera Resource Advisory Committee will meet at the Forest Service Office, North Fork, CA, 93643. The purpose of the meeting is: Whole committee discussion of 2004 project proposals, summary of USDA Forest Service budget and address RAC member mileage reimbursement.

DATES: The Madera Resource Advisory Committee meeting will be held Monday, July 19, 2004. The meeting will be held from 7 p.m. to 9 p.m.

ADDRESSES: The Madera County RAC meeting will be held at the Forest Service Office, 57003, Road 225, North Fork, CA 93644.

FOR FURTHER INFORMATION CONTACT: Dave Martin, U.S.D.A., Sierra National Forest, Bass Lake Ranger District, 57003 Road 225, North Fork, CA 93643 (559) 877-2218 ext. 3100; e-mail: dmartin05@fs.fed.us.

SUPPLEMENTARY INFORMATION: Agenda items to be covered include: (1) Committee discussion of 2004 project proposals, (2) summary of USDA Forest Service budget, and (3) address RAC member mileage reimbursement.

Dated:June 29, 2004.
David W. Martin,
District Ranger, Bass Lake Ranger District.

[FR Doc. 04-15383 Filed 7-6-04; 8:45 am]

BILLING CODE 3410-11-M